DEPARTMENT OF EDUCATION

Recognition of Accrediting Agencies, State Agencies for Approval of Public Postsecondary Vocational Education, and State Agencies for Approval of Nurse Education

AGENCY: National Advisory Committee on Institutional Quality and Integrity, Department of Education (The Advisory Committee).

What Is the Purpose of This Notice?

The purpose of this notice is to invite written comments on accrediting agencies whose applications to the Secretary for initial or renewed recognition will be reviewed at the Advisory Committee meeting to be held on May 24-26, 2000. The notice also invites written comments on agencies submitting interim reports that will be reviewed at the May meeting.

Where Should I Submit My Comments?

Please submit your written comments by March 3, 2000, to Karen Kershenstein, Director, Accreditation and State Liaison. You may contact her at the U.S. Department of Education, 1990 K Street, NW, 8th Floor, Room 8131, Washington, DC 20006, telephone: (202) 708-7417. Individuals who use a telecommunications device for the deaf (TDD) may call the Federal Information Relay Service at 1-800-877-8339 between 8 a.m. and 7 p.m., Eastern time, Monday through Friday.

What Is the Authority for the Advisory Committee?

The National Advisory Committee on Institutional Quality and Integrity is established under Section 114 of the Higher Education Act (HEA), as amended, 20 U.S.C. 1011. One of the purposes of the Advisory Committee is to advise the Secretary of Education on the recognition of accrediting agencies and State approval agencies.

Will This Be My Only Opportunity To Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comment.

What Happens to the Comments That I Submit?

We will review your comments, in response to this notice, as part of our evaluation of the agencies' compliance with the Secretary's Criteria for Recognition of Accrediting Agencies. The Criteria are regulations found in 34 CFR Part 602.

We will also include your comments in the staff analyses that we present to the Advisory Committee at its May 2000 meeting. Therefore, in order for us to give full consideration to the comments we receive, it is important that we receive your comments on all agencies by March 3, 2000. In all instances, your comments about agencies seeking initial or continued recognition must relate to the Criteria for the Recognition. In addition, your comments for any agency whose interim report is scheduled for review must relate to the issues raised and the Criteria for Recognition in the Secretary's letter that requested the interim report.

What Happens to Comments Received After the Deadline?

We will review comments received after the deadline as complaints. If such comments upon investigation reveal that the accrediting agency is not acting in accordance with the Criteria for Recognition, we will take action either before or after the meeting, as appropriate. We will notify the commentors of the disposition of those comments.

What Agencies Are on the Agenda for the Meeting?

The Secretary of Education recognizes accrediting agencies and State approval agencies for public postsecondary vocational education and nurse education if he determines that they meet the Criteria for Recognition. Recognition means that the Secretary considers the agency to be a reliable authority as to the quality of education offered by institutions or programs that are encompassed within the scope of recognition he grants to the agency. The following agencies will be reviewed during the May 2000 meeting of the Advisory Committee:

Nationally Recognized Accrediting Agencies

Petition for Initial Recognition

1. Midwifery Education Accreditation Commission (Requested scope of recognition: to accredit and preaccredit direct-entry (non-nurse) midwifery certificate and undergraduate and graduate degree educational programs and institutions).

Petitions for Renewal of Recognition

1. American Association for Marriage and Family Therapy, Commission on Accreditation for Marriage and Family Therapy Education (Requested scope of recognition: the accreditation of clinical training programs in marriage and family therapy at the master's, doctoral, and postgraduate levels. The agency also requests that its recognition include its preaccreditation status [“Candidacy”])

2. American Bar Association, Council of the Section of Legal Education and Admissions to the Bar (Requested scope of recognition: The accreditation of programs in legal education that lead to the first professional degree in law, as well as freestanding law schools offering such programs).

3. Accreditation Commission for Acupuncture and Oriental Medicine (Requested scope of recognition: the accreditation of first-professional master's degree and professional master's level certificate and diploma programs in acupuncture and Oriental medicine).

4. Accrediting Commission on Education for Health Services Administration (Requested scope of recognition: The accreditation of graduate programs in health services administration).

5. American Osteopathic Association, Bureau of Professional Education (Requested scope of recognition: The accreditation and preaccreditation [”Provisional Accreditation”] of freestanding institutions of osteopathic medicine and programs leading to the degree of Doctor of Osteopathy or Doctor of Osteopathic medicine)

6. American Podiatric Medical Association, Council on Podiatric Medical Education (Requested scope of recognition: The accreditation and preaccreditation [”Candidate Status”] of freestanding colleges of podiatric medicine and programs of podiatric medicine, including first professional programs leading to the degree of Doctor of Podiatric Medicine)

7. National Council for Accreditation of Teacher Education (Requested scope of recognition: the accreditation of professional education units providing baccalaureate and graduate degree programs for the preparation of teachers and other professional personnel for elementary and secondary schools).

8. New York State Board of Regents (Requested scope of recognition: The accreditation [registration] of collegiate degree-granting programs or curricula offered by institutions of higher education).

Interim Reports (An interim report is a follow-up report on an accrediting agency's compliance with specific criteria for recognition that was requested by the Secretary when the Secretary granted renewed recognition to the agency)—

1. American Academy for Liberal Education

2. Association of Advanced Rabbinical and Talmudic Schools, Accreditation Commission

3. Accrediting Bureau of Health Education Schools

4. American Veterinary Medical Association, Council on Education

5. The Council on Chiropractic Education, Commission on Accreditaiton

6. Council on Education for Public Health

7. National Environmental Health Sciences and Protection Accreditation Council

8. National League for Nursing Accrediting Commission

State Agencies Recognized for the Approval of Public Postsecondary Vocational Education

Petition for Renewal of Recognition

1. Puerto Rico Human Resources and Occupational Development Council.

Interim Report—

1. Oklahoma Department of Vocational and Technical Education

2. Utah State Board for Applied Technology Education

State Agencies Recognized for the Approval of Nurse Education

Petition for Renewal of Recognition

1. Montana State Board of Nursing

Interim Report—

1. Maryland State Board of Nursing

Where Can I Inspect Petitions and Third-Party Comments Before and After the Meeting?

All petitions and interim reports, and those third-party comments received in advance of the meeting, will be available for public inspection and copying at the U.S. Department of Education, 1990 K Street, NW, 8th Floor, Room 8131, Washington, DC 20006, telephone (202) 708-7417 between the hours of 8:00 a.m. and 4:30 p.m., Monday through Friday, until May 2, 2000. They will be available again after the May 24-26 Advisory Committee meeting. It is preferred that an appointment be made in advance of such inspection or copying.

Authority: 5 U.S.C. Appendix 2.

Greg Woods,
Chief Operating Officer, Student Financial Assistance.

[FR Doc. 00-1022 Filed 1-14-00; 8:45 am]

BILLING CODE 4000-01-U